DEPARTMENT OF COMMERCE

National Oceanic and Atmospheric Administration

RIN 0648-XE540

Taking and Importing Marine Mammals; Taking Marine Mammals Incidental to Alabama Department of Conservation and Natural Resources Fisheries Independent Research Programs

AGENCY: National Marine Fisheries Service (NMFS), National Oceanic and Atmospheric Administration (NOAA), Commerce.

ACTION: Notice; receipt of application for Letter of Authorization; request for comments and information.

SUMMARY: NMFS has received a request from the Alabama Department of Conservation and Natural Resources (ALDCNR) for authorization to take small numbers of marine mammals incidental to fisheries independent research programs in Mobile Bay and adjacent waters of Alabama over the course of five years from the date of issuance. Pursuant to regulations implementing the Marine Mammal Protection Act (MMPA), NMFS is announcing receipt of the ALDCNR's request for the development and implementation of regulations governing the incidental taking of marine mammals. NMFS invites the public to provide information, suggestions, and comments on the ALDCNR's application and request.

DATES: Comments and information must be received no later than January 27, 2025.

ADDRESSES: Comments on the applications should be addressed to Jolie Harrison, Chief, Permits and Conservation Division, Office of Protected Resources, National Marine Fisheries Service. Physical comments should be sent to 1315 East-West Highway, Silver Spring, MD 20910 and electronic comments should be sent to ITP.cockrell@noaa.gov.

Instructions: NMFS is not responsible for comments sent by any other method, to any other address or individual, or received after the end of the comment period. Comments received electronically, including all attachments, must not exceed a 25-megabyte file size. Attachments to electronic comments will be accepted in Microsoft Word or Excel or Adobe PDF file formats only. All comments received are a part of the public record and will generally be posted online at https://www.fisheries.noaa.gov/national/marine-mammal-protection/incidental-take-authorizations-research-and-other-activities without change. All personal identifying information (e.g., name, address) voluntarily submitted by the commenter may be publicly accessible. Do not submit confidential business information or otherwise sensitive or protected information.

FOR FURTHER INFORMATION CONTACT: Craig Cockrell, Office of Protected Resources, NMFS, (301) 427-8401. An electronic copy of the ALDCNR's application may be obtained online at: https://www.fisheries.noaa.gov/national/marine-mammal-protection/incidental-take-authorizations-research-and-other-activities. In case of problems accessing these documents, please call the contact listed above.

SUPPLEMENTARY INFORMATION:

Background

Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are issued or, if the taking is limited to harassment, a notice of a proposed authorization is provided to the public for review.

An incidental take authorization shall be granted if NMFS finds that the taking will have a negligible impact on the species or stock(s), will not have an unmitigable adverse impact on the availability of the species or stock(s) for subsistence uses (where relevant), and if the permissible methods of taking and requirements pertaining to the mitigation, monitoring and reporting of such takings are set forth.

NMFS has defined “negligible impact” in 50 CFR 216.103 as an impact resulting from the specified activity that cannot be reasonably expected to, and is not reasonably likely to, adversely affect the species or stock through effects on annual rates of recruitment or survival.

The MMPA states that the term “take” means to harass, hunt, capture, kill or attempt to harass, hunt, capture, or kill any marine mammal.

Except with respect to certain activities not pertinent here, the MMPA defines “harassment” as: any act of pursuit, torment, or annoyance, which (i) has the potential to injure a marine mammal or marine mammal stock in the wild (Level A harassment); or (ii) has the potential to disturb a marine mammal or marine mammal stock in the wild by causing disruption of behavioral patterns, including, but not limited to, migration, breathing, nursing, breeding, feeding, or sheltering (Level B harassment).

Summary of Request

On April 12, 2024, NMFS received an application from the ALDCNR requesting authorization for take of marine mammals incidental to their fisheries independent research programs related to sampling activities with gillnet and trawl gear in Mobile Bay and adjacent waters of Alabama. Following NMFS' review of the application, ALDCNR provided responses to NMFS initial questions on July 11, 2024 and responses to follow up questions on December 10, 2024. NMFS determined the application was adequate and complete on December 12, 2024. The requested regulations would be valid for five years from the date of issuance. The ALDCNR plans to conduct the research in Mobile Bay and adjacent waters including Mississippi Sound, Perdido Bay, Wolf Bay, and Little Lagoon. It is possible that marine mammals may interact with fishing gear (e.g. gillnets and trawl gear) proposed for use in ALDCNR's fishery independent resulting in injury, serious injury, or mortality. Therefore, the ALDCNR requests authorization to incidentally take marine mammals.

Specified Activities

The ALDCNR conducts fishery independent surveys throughout the inshore and coastal waters of Alabama, in the northern Gulf of Mexico, to produce scientific information necessary for the management and conservation of living marine resources in that area. The fisheries independent research programs use sampling gear including gillnets, seines, and otter trawls to assess marine organisms in different habitats and trophic levels and provides data about post-larval, juvenile, and adult populations of marine organisms in Alabama inshore and coastal waters. The collective data is used by fisheries scientists to monitor growth, seasonal and geographical distribution, changes in population structures, and correlation of abundance with some abiotic factors for all Alabama marine fauna. These proposed activities by ALDCNR would be conducted over the 5-year period of the regulations and subsequent LOA.

Information Solicited

Interested persons may submit information, suggestions, and comments concerning the ALDCNR's request (see ADDRESSES). NMFS will consider all information, suggestions, and comments related to the request during the development of proposed regulations governing the incidental taking of marine mammals by the ALDCNR, if appropriate.

Dated: December 18, 2024.
Kimberly Damon-Randall,
Director, Office of Protected Resources, National Marine Fisheries Service.

[FR Doc. 2024-30726 Filed 12-23-24; 8:45 am]

BILLING CODE 3510-22-P